DEPARTMENT OF HEALTH AND HUMAN SERVICE

Centers for Disease Control and Prevention

[Program Announcement 00139]

HIV/AIDS Prevention Program Development and Technical Assistance Collaboration for Public Health Laboratory Science With Countries Targeted by the Leadership and Investment in Fighting the Epidemic (LIFE) Initiative; Notice of Availability of Funds

A. Purpose

The Centers for Disease Control and Prevention (CDC) announces the availability of fiscal year (FY) 2000 funds for a cooperative agreement program for HIV/AIDS Prevention Program Development and Technical Assistance Collaboration with Countries Targeted by the LIFE (Leadership and Investment in Fighting an Epidemic) Initiative.

In July 1999, the United States (U.S.) Government announced the LIFE Initiative to address the global AIDS pandemic. The LIFE initiative, an effort to expand and intensify the global response to the growing AIDS pandemic and its serious impact, is part of the U.S. Government's participation in the International Partnership Against HIV/AIDS in Africa (IPAA). A central feature of the LIFE Initiative is a $100 million increase in US support for sub-Saharan African countries and India, which are working to prevent the further spread of HIV and to care for those affected by this devastating disease. This additional funding is a critical step by the U.S. Government in recognizing the impact that AIDS continues to have on individuals, families, communities and nations responding to the imperative to do more. The Department of Health and Human Services (HHS), through its agency the Centers for Disease Control and Prevention (CDC) is administering $35 million of the $100 million allocated to the LIFE Initiative by Congress in November 1999.

The purpose of the program is to support HIV/AIDS prevention program development and technical assistance for countries designated as LIFE countries by the United States Congress. At present, those countries are Botswana, Cote D'Ivoire, Kenya, South Africa, Uganda, Rwanda, Zimbabwe, Ethiopia, Mozambique, Malawi, Tanzania, Nigeria, Senegal, Zambia and India. The countries targeted represent those with the most severe epidemic and the highest number of new infections. They also represent countries where the potential for impact is greatest and where U.S. government agencies are already active.

The goals of this program are to address and support three program elements of the LIFE initiative: Primary Prevention, Capacity and Infrastructure Development, and Community and Home-Based Care and Treatment. This program announcement calls for the delivery of HIV/AIDS prevention program development and technical assistance to the LIFE countries through a variety of recipient activities. The result will be enhancement of the skills of officials from LIFE country national AIDS control programs in strategic planning, implementation, evaluation, and communication relating to HIV/AIDS prevention and care programs.

B. Eligible Applicants

Assistance will be provided only to the Association of Public Health Laboratories (APHL) for this project. No other applications are solicited or will be accepted. APHL is the appropriate and only qualified agency to provide the services specified under this cooperative agreement because:

1. APHL is the only officially established organization that represents public health laboratory science practitioners. As such, APHL represents officials from throughout the U.S. who have responsibility for all aspects of public health laboratory science practice, education and management to ensure excellent, accessible cost-effective laboratory services for the consumers of health care.

2. This places APHL in a unique position to act as a liaison between state and territorial public health laboratorians and LIFE country public health officials. In addition, the same set of knowledge, skills, and abilities APHL represents (through its members' expertise) are of critical importance in improving the capacity of public health laboratories in African countries and India.

3. Health threats such as HIV are not confined by geographic boundaries. APHL was formed to promote coordination of HIV/AIDS public health laboratory efforts among the States and territories. The organization is uniquely positioned to collaborate not only with national organizations, including Federal agencies, but also with national AIDS control program officials in the LIFE countries, on policy and program issues from a U.S.-government model, multi-state perspective. In this collaboration APHL is positioned to monitor, assess, and improve HIV/AIDS-related laboratory design, implementation, and evaluation in the LIFE countries.

4. APHL is uniquely qualified to assure the provision of technical assistance to public health laboratories domestically; therefore, APHL is uniquely positioned to provide CDC technical assistance by serving as a liaison between State and territorial public health laboratory officials and officials of national AIDS control programs in the LIFE countries. In the U.S., APHL coordinates the efforts of HIV/AIDS public health laboratory directors, who work together with CDC to monitor the public health laboratories across States and territories, share successes and challenges, monitor issues and obstacles to implementation of effective interventions, provide technical assistance and consult with CDC, one another, and other governmental and non-governmental prevention partners on these issues. Therefore APHL possesses unique knowledge and insight that can be applied to the LIFE initiative through the provision of technical assistance aimed at strengthening the ability of national AIDS control programs to design, develop, implement, and maintain HIV/AIDS public health laboratories based on the best practices of U.S. state and territory programs.

5. It is critical that APHL conducts these services since it represents the HIV/AIDS public health laboratory directors who oversee and deliver HIV testing analysis. Since APHL represents the HIV/AIDS public health laboratory directors who have responsibility for HIV testing analysis within their jurisdictions, it is the only organization that can work collaboratively with individual AIDS Directors to provide multi-jurisdiction perspectives and translate knowledge, skills, and abilities to national AIDS control program officials in the LIFE countries.

6. APHL has already established mechanisms for communicating HIV/AIDS laboratory practice information to the States and the political subdivisions of the States that carry out the Nation's HIV/AIDS public health laboratory programs. They can use these mechanisms to exchange information between the States and public health officials in the LIFE countries to identify and develop effective public health laboratory information networks and dissemination systems. Because of their experience and established communications mechanisms, APHL is in a unique position to assist national AIDS control program officials with the dissemination of HIV/AIDS laboratory practice information within their respective country settings.

C. Availability of Funds

Approximately $500,000 is available in FY 2000 to support this award. It is expected that the award will begin on or about September 30, 2000 and will be made for a 12-month budget period within a project period of up to 3 years. Funding estimates may change.

Continuation awards within an approved project period will be made on the basis of satisfactory progress as evidenced by required reports and the availability of funds.

Use of Funds

Funds received from this announcement will not be used for the purchase of antiretroviral drugs for treatment of established HIV infection, occupational exposures, and non-occupational exposures and will not be used for the purchase of machines and reagents to conduct the necessary laboratory monitoring for patient care.

Applicants may contract with other organizations under these cooperative agreements. However, applicants must perform a substantial portion of the activities (including program management and operations and delivery of prevention services for which funds are requested.) Peer-to-peer training, technical assistance, and other activities (including but not limited to those described below under Program Requirements—Recipient Activities) conducted outside the U.S. by persons under this award are limited to forty-five (45) days per person per year.

D. Where To Obtain Additional Information

This and other CDC announcements can be found on the CDC home page Internet address—http://www.cdc.gov. Scroll down the page, then click on “Funding” then “Grants and Cooperative Agreements.”

If you have questions after reviewing the contents of all the documents, business management technical assistance may be obtained from: Dorimar Rosado, Grants Management Specialist, Grants Management Branch, Procurement and Grants Office, Centers for Disease Control and Prevention (CDC), 2920 Brandywine Road, Room 3000, MailStop E-15, Atlanta, GA 30341-4146; Telephone (770) 488-2736; E-mail address: dpr7@cdc.gov.

Programmatic technical information may be obtained from: Leo Weakland, Deputy Coordinator, Global AIDS Activity (GAA), National Center for HIV, STD, and TB Prevention, Centers for Disease Control and Prevention (CDC), 1600 Clifton Road, M/S E-07, Atlanta, GA30333; Telephone number (404) 639-8906; E-mail address: lfw0@cdc.gov.

Dated: July 18, 2000.
John L. Williams,
Director, Procurement and Grants Office, Centers for Disease Control and Prevention (CDC).

[FR Doc. 00-18595 Filed 7-21-00; 8:45 am]

BILLING CODE 4163-18-P